SURFACE TRANSPORTATION BOARD

[Docket No. FD 36458]

West Virginia State Rail Authority—Acquisition and Operation Exemption—The Elk River Railroad, Inc.

West Virginia State Rail Authority (WVRA), a Class III rail carrier, has filed a verified notice of exemption under 49 CFR 1150.41 to acquire from The Elk River Railroad, Inc. (TERRI) and operate approximately 18.0 miles of rail line extending from milepost 0.0 at Dundon and milepost 18.0 at Widen, in Clay County, W. Va. (the Line).¹

¹ The verified notice states that the Line is known as the Buffalo Creek & Gauley Railroad. TERRI was recently granted after-the-fact authority to merge with The Buffalo Creek Railroad Company, which previously owned the Line. See Elk River R.R.—Merger Exemption—Buffalo Creek R.R., FD 36434 (STB served Nov. 6, 2020).

WVRA states that it has executed a Purchase and Sale Agreement with TERRI to purchase the Line, plus connecting spur and side tracks, if any, appurtenant property and assets, and underlying real estate and right-of-way. WVRA states that, after consummation, it will own and operate the Line as a common carrier and will assume all common carrier rights and obligations with respect thereto.

WVRA certifies that the proposed acquisition and operation of the Line does not involve a provision or agreement that may limit future interchange with a third-party connecting carrier. WVRA further certifies that its projected annual revenues as a result of this transaction will not exceed the maximum revenue of a Class III rail carrier and will not exceed $5 million.

The transaction may be consummated on or after December 16, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 9, 2020 (at least seven days before the exemption becomes effective).

All pleadings, referring to Docket No. FD 36458, should be filed with the Surface Transportation Board via e-filing on the Board's website. In addition, a copy of each pleading must be served on WVRA's representative, Lucinda K. Butler, Executive Director, West Virginia State Rail Authority, 120 Water Plant Drive, Moorefield, WV 26836.

According to WVRA, this action is categorically excluded from environmental review under 49 CFR 1105.6(c) and from historic reporting requirements under 49 CFR 1105.8(b).

Board decisions and notices are available at www.stb.gov.

Decided: November 25, 2020.
By the Board, Scott M. Zimmerman, Acting Director, Office of Proceedings.
Kenyatta Clay,
Clearance Clerk.

[FR Doc. 2020-26574 Filed 12-1-20; 8:45 am]

BILLING CODE 4915-01-P